DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: May 9, 2008, 8:15 a.m.-3:15 p.m.

Place: Hilton Washington DC/Rockville Executive Meeting Center, 1750 Rockville Pike, Rockville, MD 20852, Telephone: 301-468-1100.

Status: The meeting will be open to the public.

Agenda: On the morning of May 9, following the welcoming remarks from the COGME Chair and the Executive Secretary of COGME, there will be presentations and discussion of studies and models that link income and reimbursement to medical career choice. A presentation will also be given from staff of the Medicare Payment Advisory Commission (MEDPAC) on issues of interest to COGME.

Agenda items are subject to change as priorities dictate.

Supplementary Information: COGME will join the Advisory Committee on Training in Primary Care Medicine and Dentistry (ACTPCMD), the National Advisory Council on Nurse Education and Practice (NACNEP) and the Advisory Committee on Interdisciplinary, Community-Based Linkages (ACICBL) on May 8, 2008, for the first Bureau of Health Professions (BHPr) All Advisory Committee Meeting. Please refer to the Federal Register notice for the BHPr All Advisory Committee Meeting for additional details.

For Further Information Contact: Jerald M. Katzoff, Executive Secretary, COGME, Division of Medicine and Dentistry, Bureau of Health Professions, Health Resources and Services Administration, Parklawn Building, Room 9A-21, 5600 Fishers Lane, Rockville, Maryland 20857, Telephone (301) 443-4443.

Dated: April 3, 2008.
Alexandra Huttinger,
Director, Division of Policy Review and Coordination.

[FR Doc. E8-7573 Filed 4-9-08; 8:45 am]

BILLING CODE 4165-15-P